MARINE MAMMAL COMMISSION

Sunshine Act Meeting

TIME AND DATE: The Marine Mammal Commission and its Committee of Scientific Advisors on Marine Mammals will meet in executive session on Wednesday, November 14, 2001, from 8 a.m. to 10:45 a.m. The public sessions of the Commission and the Committee meeting will be held on Wednesday, November 14, from 11 a.m. to 5:45 p.m., on Thursday, November 15, from 8:30 a.m. to 5:45 p.m., and on Friday, November 16, from 8:30 a.m. to 3:30 p.m.

PLACE: Anchorage Marriott Downtown, 820 West 7th Avenue, Anchorage, Alaska 99501; Phone: 907-279-8000; Fax 907-279-8005.

STATUS: The executive session will be closed to the public. At it, matters relating to international negotiations in process, personnel, and the budget of the Commission will be discussed. All other portions of the meeting will be open to public observation. Public participation will be allowed as time permits and as determined to be desirable by the Chairman.

MATTERS TO BE CONSIDERED: The Commission and Committee will meet in public session to discuss a broad range of marine mammal matters. The meeting will focus primarily on marine mammal species and issues related to Alaska. While subject to change, major issues that the Commission plans to consider at the meeting include the status of the Bering Sea ecosystem; co-management of marine mammal populations; Pacific walruses; polar bears; sea otters in Alaska; ice seals; harbor seals; Steller sea lions; and large cetaceans in the North Pacific Ocean.

CONTACT PERSON FOR MORE INFORMATION: Robert H. Mattlin, Executive Director, Marine Mammal Commission, 4340 East-West Highway, Room 905, Bethesda, MD 20814, 301-504-0087.

Dated: October 5, 2001.
Robert H. Mattlin,
Executive Director.

[FR Doc. 01-25538 Filed 10-5-01; 2:21 pm]

BILLING CODE 6820-31-M